DEPARTMENT OF ENERGY

Federal Energy Regulatory Commission

[Project No. 516-512]

Dominion Energy South Carolina, Inc.; Notice of Application Accepted for Filing and Soliciting Comments, Motions To Intervene, and Protests

Take notice that the following hydroelectric application has been filed with the Commission and is available for public inspection:

a. Application Type: Non-Project Use of Project Lands and Waters.

b. Project No: 516-512.

c. Date Filed: March 23, 2022.

d. Applicant: Dominion Energy South Carolina, Inc.

e. Name of Project: Saluda Hydroelectric Project.

f. Location: The project is located on the Saluda River in Richland, Lexington, Saluda, and Newberry counties, near Columbia, South Carolina.

g. Filed Pursuant to: Federal Power Act, 16 U.S.C. 791a-825r.

h. Applicant Contact: Dan Adams, Senior Lake Management Representative, Dominion Energy South Carolina, Inc., (803) 217-9243, john.adams@dominionenergy.com.

i. FERC Contact: Mary Karwoski, (678) 245-3027, mary.karwoski@ferc.gov.

j. Deadline for filing comments, motions to intervene, and protests: May 19, 2022.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include the docket number P-516-512. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: Dominion Energy South Carolina, Inc. requests Commission authorization to modify the existing Putnam's Landing marina to add 77 additional boat slips to accommodate a total of 120 watercraft. The proposed modifications include removal of existing dilapidated docks and installation of a new fixed wooden pier walkway with metal gangway leading to a new 120-slip dock tree; a new fueling/pump-out/handicap dock; dredging of approximately 450 cubic yards (cy) in a 0.3-acre area of Lake Murry; placement of approximately 890 cy of clean fill material for shoreline stabilization; construction of dry dock launch, abutments, and removal and replacement of approximately 1340 linear feet of bulkhead; and construction of a temporary sheet pile dam to dewater 0.05 acres of Lake Murry to facilitate construction of the new dry dock launch. The proposed dock tree would extend approximately 202 feet from the 360-foot full pool elevation of Lake Murray and run parallel to the shoreline, spanning approximately 638 feet of shoreline. Ancillary structures, such as dry dock storage, office buildings, roads, parking lots, and water quality ponds would be constructed in the uplands above the 360-foot full pool elevation.

l. Locations of the Application: This filing may be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: April 19, 2022.
Kimberly D. Bose,
Secretary.

[FR Doc. 2022-08838 Filed 4-25-22; 8:45 am]

BILLING CODE 6717-01-P